DEPARTMENT OF ENERGY

Federal Energy Regulatory Commission

Combined Notice of Filings #1

Take notice that the Commission received the following exempt wholesale generator filings:

Docket Numbers: EG26-147-000.

Applicants: Mayhew Lake Energy Storage, LLC.

Description: Mayhew Lake Energy Storage, LLC submits Notice of Self-Certification of Exempt Wholesale Generator Status.

Filed Date: 2/6/26.

Accession Number: 20260206-5094.

Comment Date: 5 p.m. ET 2/27/26.

Take notice that the Commission received the following Complaints and Compliance filings in EL Dockets:

Docket Numbers: EL26-44-000; ER25-2145-000.

Applicants: American Transmission Systems, Incorporated, American Municipal Power, Inc. v. American Transmission Systems, Inc.

Description: Formal Challenge and Complaint of American Municipal Power, Inc. v. American Transmission Systems, Inc.

Filed Date: 2/5/26.

Accession Number: 20260205-5122.

Comment Date: 5 p.m. ET 2/25/26.

Take notice that the Commission received the following electric rate filings:

Docket Numbers: ER14-199-007.

Applicants: Lakewood Cogeneration, L.P.

Description: Compliance filing: Informational Filing Pursuant to Schedule 2 of the PJM OATT to be effective N/A.

Filed Date: 2/6/26.

Accession Number: 20260206-5120.

Comment Date: 5 p.m. ET 2/27/26.

Docket Numbers: ER14-714-005.

Applicants: Essential Power Rock Springs, LLC.

Description: Compliance filing: Informational Filing Pursuant to Schedule 2 of the PJM OATT to be effective N/A.

Filed Date: 2/6/26.

Accession Number: 20260206-5108.

Comment Date: 5 p.m. ET 2/27/26.

Docket Numbers: ER14-715-005.

Applicants: Essential Power OPP, LLC.

Description: Compliance filing: Informational Filing Pursuant to Schedule 2 of the PJM OATT to be effective N/A.

Filed Date: 2/6/26.

Accession Number: 20260206-5114.

Comment Date: 5 p.m. ET 2/27/26.

Docket Numbers: ER18-2002-005.

Applicants: Essential Power Rock Springs, LLC.

Description: Compliance filing: Informational Filing Pursuant to Schedule 2 of the PJM OATT to be effective N/A.

Filed Date: 2/6/26.

Accession Number: 20260206-5112.

Comment Date: 5 p.m. ET 2/27/26.

Docket Numbers: ER20-2452-015.

Applicants: Hamilton Liberty LLC.

Description: Compliance filing: Informational Filing Pursuant to Schedule 2 of the PJM OATT to be effective N/A.

Filed Date: 2/6/26.

Accession Number: 20260206-5129.

Comment Date: 5 p.m. ET 2/27/26.

Docket Numbers: ER20-2453-016.

Applicants: Hamilton Patriot LLC.

Description: Compliance filing: Informational Filing Pursuant to Schedule 2 of the PJM OATT to be effective N/A.

Filed Date: 2/6/26.

Accession Number: 20260206-5143.

Comment Date: 5 p.m. ET 2/27/26.

Docket Numbers: ER22-2359-005.

Applicants: PJM Interconnection, L.L.C.

Description: Compliance filing: PJM Clean-Up Filing re Order 881 to be effective 3/4/2026.

Filed Date: 2/5/26.

Accession Number: 20260205-5146.

Comment Date: 5 p.m. ET 2/26/26.

Docket Numbers: ER25-2680-001.

Applicants: New York Independent System Operator, Inc.

Description: Compliance filing: NYISO Compliance Errata: Order No. 676-K NAESB/WEQ to be effective 2/27/2026.

Filed Date: 2/6/26.

Accession Number: 20260206-5159.

Comment Date: 5 p.m. ET 2/27/26.

Docket Numbers: ER26-247-001.

Applicants: Southwest Power Pool, Inc.

Description: Compliance filing: Compliance Filing—High Impact Large Load Processes and Generation Assessment to be effective 1/15/2026.

Filed Date: 2/6/26.

Accession Number: 20260206-5017.

Comment Date: 5 p.m. ET 2/27/26.

Docket Numbers: ER26-766-001.

Applicants: Pelicans Jaw Solar, LLC.

Description: Tariff Amendment: Response to Request for Add'l Information and Req. for Shortened Comment Period to be effective 2/14/2026.

Filed Date: 2/6/26.

Accession Number: 20260206-5088.

Comment Date: 5 p.m. ET 2/27/26.

Docket Numbers: ER26-1277-000.

Applicants: Southwest Power Pool, Inc.

Description: § 205(d) Rate Filing: 4266R1 Beeline Solar Energy GIA to be effective 1/26/2026.

Filed Date: 2/6/26.

Accession Number: 20260206-5004.

Comment Date: 5 p.m. ET 2/27/26.

Docket Numbers: ER26-1278-000.

Applicants: American Transmission Systems, Incorporated.

Description: § 205(d) Rate Filing: ATSI submits a Construction Agmt—SA No. 7264 to be effective 4/8/2026.

Filed Date: 2/6/26.

Accession Number: 20260206-5006.

Comment Date: 5 p.m. ET 2/27/26.

Docket Numbers: ER26-1279-000.

Applicants: Union Electric Company, Midcontinent Independent System Operator, Inc.

Description: § 205(d) Rate Filing: Union Electric Company submits tariff filing per 35.13(a)(2)(iii: 2026-02-06_SA 4177 Union Electric-CEC 1st Rev TIA to be effective 4/8/2026.

Filed Date: 2/6/26.

Accession Number: 20260206-5027.

Comment Date: 5 p.m. ET 2/27/26.

Docket Numbers: ER26-1280-000.

Applicants: American Transmission Company LLC, Midcontinent Independent System Operator, Inc.

Description: § 205(d) Rate Filing: American Transmission Company LLC submits tariff filing per 35.13(a)(2)(iii: 2026-02-06_SA 4333 ATC-Degas 2nd Rev ESA to be effective 2/7/2026.

Filed Date: 2/6/26.

Accession Number: 20260206-5036.

Comment Date: 5 p.m. ET 2/27/26.

Docket Numbers: ER26-1281-000.

Applicants: Southwestern Public Service Company.

Description: § 205(d) Rate Filing: 2026.02.06—Removal of 2026 Generation to be effective 4/1/2026.

Filed Date: 2/6/26.

Accession Number: 20260206-5040.

Comment Date: 5 p.m. ET 2/27/26.

Docket Numbers: ER26-1282-000.

Applicants: Tri-State Generation and Transmission Association, Inc.

Description: § 205(d) Rate Filing: Initial Filing of Service Agreement FERC No. 932 to be effective 1/7/2026.

Filed Date: 2/6/26.

Accession Number: 20260206-5043.

Comment Date: 5 p.m. ET 2/27/26.

Docket Numbers: ER26-1283-000.

Applicants: PJM Interconnection, L.L.C.

Description: § 205(d) Rate Filing: Original WMPA, Service Agreement No. 7820; AF2-296 to be effective 1/7/2026.

Filed Date: 2/6/26.

Accession Number: 20260206-5050.

Comment Date: 5 p.m. ET 2/27/26.

Docket Numbers: ER26-1284-000.

Applicants: PJM Interconnection, L.L.C.

Description: § 205(d) Rate Filing: Amendment to ISA, Service Agreement No. 3325; Queue No. X1-038 to be effective 1/23/2026.

Filed Date: 2/6/26.

Accession Number: 20260206-5052.

Comment Date: 5 p.m. ET 2/27/26.

Docket Numbers: ER26-1285-000.

Applicants: PJM Interconnection, L.L.C.

Description: § 205(d) Rate Filing: Rev'd WMPA Service Agreement SA No. 7261; Project Identifier No. AF1-238/AF1-239 to be effective 1/7/2026.

Filed Date: 2/6/26.

Accession Number: 20260206-5057.

Comment Date: 5 p.m. ET 2/27/26.

Docket Numbers: ER26-1286-000.

Applicants: Southern California Edison Company.

Description: Tariff Amendment: Terminate City of Verson RS 531 536 to be effective 2/7/2026.

Filed Date: 2/6/26.

Accession Number: 20260206-5065.

Comment Date: 5 p.m. ET 2/27/26.

Docket Numbers: ER26-1287-000.

Applicants: Southwest Power Pool, Inc.

Description: § 205(d) Rate Filing: Revisions to Attachment AA for RTO Expansion to be effective 4/8/2026.

Filed Date: 2/6/26.

Accession Number: 20260206-5083.

Comment Date: 5 p.m. ET 2/27/26.

Docket Numbers: ER26-1288-000.

Applicants: Midcontinent Independent System Operator, Inc., Ameren Illinois Company.

Description: § 205(d) Rate Filing: Ameren Illinois Company submits tariff filing per 35.13(a)(2)(iii: 2026-02-06_SA 4673 Ameren Illinois-PPI Reimbursement Agreement to be effective 2/7/2026.

Filed Date: 2/6/26.

Accession Number: 20260206-5087.

Comment Date: 5 p.m. ET 2/27/26.

Docket Numbers: ER26-1289-000.

Applicants: Midcontinent Independent System Operator, Inc., American Transmission Company LLC.

Description: § 205(d) Rate Filing: American Transmission Company LLC submits tariff filing per 35.13(a)(2)(iii: 2026-02-06_SA 4556 ATC-Vantage 1st Rev PAA to be effective 2/7/2026.

Filed Date: 2/6/26.

Accession Number: 20260206-5091.

Comment Date: 5 p.m. ET 2/27/26.

Docket Numbers: ER26-1290-000.

Applicants: PJM Interconnection, L.L.C.

Description: § 205(d) Rate Filing: Original GIA, SA No. 7825; Project Identifier No. AG1-433 to be effective 1/9/2026.

Filed Date: 2/6/26.

Accession Number: 20260206-5154.

Comment Date: 5 p.m. ET 2/27/26.

Docket Numbers: ER26-1291-000.

Applicants: Western Interconnect LLC.

Description: § 205(d) Rate Filing: Amendments to TSA and LGIA Agreements to be effective 2/7/2026.

Filed Date: 2/6/26.

Accession Number: 20260206-5155.

Comment Date: 5 p.m. ET 2/27/26.

Docket Numbers: ER26-1292-000.

Applicants: PJM Interconnection, L.L.C.

Description: § 205(d) Rate Filing: Original GIA Service Agreement No. 7822; Project Identifier No. AG1-354 to be effective 1/8/2026.

Filed Date: 2/6/26.

Accession Number: 20260206-5163.

Comment Date: 5 p.m. ET 2/27/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: February 6, 2026.
Carlos D. Clay,
Deputy Secretary.

[FR Doc. 2026-02737 Filed 2-10-26; 8:45 am]

BILLING CODE 6717-01-P